DEPARTMENT OF TRANSPORTATION

Federal Aviation Administration

14 CFR Part 39

[Docket No. 99-CE-04-AD]

RIN 2120-AA64

Airworthiness Directives; Fairchild Aircraft, Inc. SA226-T, SA226-T(B), SA226-AT, and SA226-TC Airplanes

AGENCY: Federal Aviation Administration, DOT.

ACTION: Proposed rule; Withdrawal.

SUMMARY: This document withdraws a notice of proposed rulemaking (NPRM) that would have applied to certain Fairchild Aircraft, Inc. (Fairchild) Models SA226-T, SA226-T(B), SA226-AT, and SA226-TC airplanes. The proposed airworthiness directive (AD) would have required you to replace the existing brake master cylinders with brake master cylinders of improved design. The proposed AD was the result of an accident of a Model SA226-TC airplane where it was believed that the master cylinder did not allow the brake hydraulic pressure to totally release at the beginning of the takeoff roll. The result of this incident was dragging brakes and overheating left-hand main wheel brakes with a fire in the wheel well area. Fairchild has adequately demonstrated to the Federal Aviation Administration (FAA) that the design of the brake master cylinder on the affected airplanes was not the cause of the referenced accident. Therefore, AD action is not necessary to address the conditions on these airplanes and we are withdrawing the NPRM.

ADDRESSES: You may look at information related to this action at FAA, Central Region, Office of the Regional Counsel, Attention: Rules Docket No. 99-CE-04-AD, 901 Locust, Room 506, Kansas City, Missouri 64106, between 8 a.m. and 4 p.m., Monday through Friday, except holidays.

FOR FURTHER INFORMATION CONTACT: Werner Koch, FAA, Airplane Certification Office, 2601 Meacham Boulevard, Fort Worth, Texas 76193-0150; telephone: (817) 222-5133; facsimile: (817) 222-5960.

SUPPLEMENTARY INFORMATION:

Discussion

What action has FAA taken to date? We issued a proposal to amend part 39 of the Federal Aviation Regulations (14 CFR part 39) to include an AD that would apply to certain Fairchild Models SA226-T, SA226-T(B), SA226-AT, and SA226-TC airplanes. The proposal was published in the Federal Register as an NPRM on February 18, 1999 (64 FR 8022). The NPRM proposed to require you to replace the existing brake master cylinders with brake master cylinders of improved design.

Was the public invited to comment? The FAA invited interested persons to participate in the making of this amendment. We received one comment on the proposed AD. Our analysis and disposition of this comment follow:

Comment Disposition

What is the commenter's concern? Fairchild submits data that it believes shows that the design of the brake master cylinder on the affected airplanes was not the cause of the referenced accident. Therefore, Fairchild states that FAA should withdraw the NPRM because the proposed actions do not address the condition described in the NPRM.

What is FAA's response to the concern? After reviewing this data, we have determined that Fairchild has adequately demonstrated that the design of the brake master cylinder on the affected airplanes was not the cause of the referenced accident. We will withdraw the NPRM per Fairchild's request.

The FAA's Determination

What is FAA's final determination on this issue? Based on the above information, we have determined that there is no need for the actions specified in NPRM, Docket No. 99-CE-04-AD, and that we should withdraw it.

Withdrawal of this NPRM does not prevent us from issuing another notice in the future, nor will it commit us to any course of action in the future.

Regulatory Impact

Does this AD involve a significant rule or regulatory action? Since this action only withdraws a proposed AD, it is not an AD and, therefore, is not covered under Executive Order 12866, the Regulatory Flexibility Act, or DOT Regulatory Policies and Procedures (44 FR 11034, February 26, 1979).

List of Subjects in 14 CFR Part 39

Air transportation, Aircraft, Aviation safety, Safety.

The Withdrawal

Accordingly, FAA withdraws the notice of proposed rulemaking, Docket No. 99-CE-04-AD, which was published in the Federal Register on February 18, 1999 (64 FR 8022).

Issued in Kansas City, Missouri, on September 7, 2000.
Michael Gallagher,
Manager, Small Airplane Directorate, Aircraft Certification Service.

[FR Doc. 00-23586 Filed 9-13-00; 8:45 am]

BILLING CODE 4910-13-U